DEPARTMENT OF AGRICULTURE

Forest Service

Olympic Provincial Advisory Committee (OPAC)

AGENCY: Forest Service, USDA.

ACTION: Notice of meeting.

SUMMARY: The Olympic Province Advisory Committee (OPAC) will meet on August 16, 2002. The meeting will be held at the Quinault Indian Nation's Department of Natural Resource Conference Room in Taholah, Washington. The meeting will begin at 9:30 a.m. and end at approximately 3 p.m. Agenda topics are: (1) Current status of key Forest issues; (2) Status update on the Resource Advisory Committees for Rural Schools and Community Self-Determination Act of 2000; (3) Regional and local tribal relations; (4) Open forum; and (5) Public comments.

All Olympic Province Advisory Committee Meetings are open to the public. Interested citizens are encourage to attend.

FOR FURTHER INFORMATION CONTACT: Direct questions regarding this meeting to Ken Eldredge, Province Liaison, USDA, Olympic National Forest Headquarters, 1835 Black Lake Blvd. Olympia, WA 98512-5623, (360) 956-2323 or Dale Hom, Forest Supervisor at (360) 956-2301.

Dated: July 23 2002.
Kathy O'Halloran,
Acting Forest Supervisor, Olympic National Forest.

[FR Doc. 02-19480 Filed 8-1-02; 8:45 am]

BILLING CODE 3410-11-M